DEPARTMENT OF LABOR

Employment and Training Administration

[TA-W-51,498]

Precision Interconnect, a Division of Tyco Healthcare Group, LP, Broomfield, CO; Notice of Termination of Investigation

Pursuant to section 221 of the Trade Act of 1974, as amended, an investigation was initiated on April 15, 2003 in response to a worker petition filed by a company official on behalf of workers at Precision Interconnect, a division of Tyco Healthcare Group, LP, Broomfield, Colorado.

The petitioner has requested that the petition be withdrawn. Consequently, further investigation would serve no purpose, and the investigation has been terminated.

Signed at Washington, DC, this 13th day of May, 2003.
Linda G. Poole,
Certifying Officer, Division of Trade Adjustment Assistance.

[FR Doc. 03-13405 Filed 5-28-03; 8:45 am]

BILLING CODE 4510-30-P